DEPARTMENT OF EDUCATION

National Assessment Governing Board Quarterly Board Meeting

AGENCY: National Assessment Governing Board, U.S. Department of Education.

ACTION: Announcement of open and closed meetings.

SUMMARY: This notice sets forth the agenda for the November 20-22, 2014 Quarterly Meeting of the National Assessment Governing Board (hereafter referred to as Governing Board). This notice provides information to members of the public who may be interested in attending the meeting or providing written comments on the meeting. The notice of this meeting is required under Section 10(a)2) of the Federal Advisory Committee Act (FACA).

DATES: The Quarterly Board meeting will be held on the following dates: November 20, 2014 from 9:00 a.m. to 6:00 p.m.; November 21, 2014 from 8:30 a.m. to 5:00 p.m.; November 22, 2014 from 7:30 a.m. to 12:00 p.m.

ADDRESSES: The Fairfax at Embassy Row, 2100 Massachusetts Avenue NW., Washington, DC.

FOR FURTHER INFORMATION CONTACT: Munira Mwalimu, Executive Officer, 800 North Capitol Street NW., Suite 825, Washington, DC 20002, telephone: (202) 357-6938, fax: (202) 357-6945.

SUPPLEMENTARY INFORMATION: Statutory Authority and Function: The National Assessment Governing Board is established under Title III—National Assessment of Educational Progress Authorization Act, Public Law 107-279. Information on the Board and its work can be found at www.nagb.gov.

The Board is established to formulate policy guidelines for the National Assessment of Educational Progress (NAEP). The Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

Detailed Meeting Agenda: November 20-November 22, 2014

November 20: Committee Meetings

Assessment Development Committee: Closed Session: 9:00 a.m.-3:30 p.m.

Assessment Literacy Work Group: Open Session: 12:00 p.m.-4:00 p.m.

Executive Committee: Open Session: 4:30 p.m.-5:00 p.m.; Closed Session: 5:00 p.m.-6:00 p.m.

November 21: Full Board and Committee Meetings

Full Board: Open Session: 8:30 a.m.-9:45 a.m.; Closed Session 12:45 p.m.-1:45 p.m.; Open Session 2:00 p.m.-2:30 p.m.; Closed Session 2:45 p.m.-4:15 p.m. Board Member Ethics Training: 4:30 p.m.-5:00 p.m.

Committee Meetings

Reporting and Dissemination Committee (R&D): Open Session: 10:00 a.m.-12:30 p.m.

Committee on Standards, Design and Methodology (COSDAM): Open Session: 10:00 a.m.-12:30 p.m.

Assessment Development Committee (ADC): Open Session: 10:00 a.m.-11:45 p.m.; Closed Session: 11:45 p.m.-12:30 p.m.

November 22: Full Board and Committee Meetings

Nominations Committee: Closed Session: 7:30 a.m.-8:15 a.m.

Full Board: Closed Session: 8:30 a.m.-9:30 a.m. Open Session 9:30 a.m.-12:00 p.m.

On November 20, 2014, from 9:00 a.m. to 3:30 p.m. the Assessment Development Committee will meet in closed session to review assessment items for the NAEP transition to technology-based assessments (TBA). The briefing will include secure items in reading and mathematics at grades 4 and 8. These secure materials are paper-and-pencil items in reading and mathematics that are being transformed into technology-based assessment items for the 2016 pilot, in preparation for the 2017 operational assessment. Following the TBA briefing, the ADC will review secure mathematics materials for scenario-based tasks that are being developed for grades 4 and 8 for the 2016 pilot, in preparation for the 2017 operational assessment. The Committee's reviews and discussions on secure test items cannot be discussed in an open meeting to protect the confidentiality of the secure assessment materials. Premature disclosure of these results would significantly impede implementation of the NAEP assessment program, and is therefore protected by exemption 9(B) of section 552b(c) of Title 5 United States Code.

The Board's Assessment Literacy Work Group will meet in open session on November 20, 2014, from 12:00 p.m. to 4:00 p.m. The Work Group will discuss assessment literacy strategies and timelines related to their work on supporting a better understanding of educational tests among parents and members of the general public.

The Board's Executive Committee will convene in open session on November 20, 2014 from 4:30 p.m. to 5:00 p.m. to review and discuss the November 21-22, 2014 Board meeting agenda, receive updates on the NAEP budget, assessment schedule, and reauthorization, and discuss Board Committee issues and challenges to be addressed by the respective Board Committees.

Following this session, the Executive Committee will meet in closed session from 5:00 p.m. to 6:00 p.m. to receive and discuss cost estimates on various options for implementing NAEP for 2014-2018. The implications of the cost estimates and funds in support of the NAEP Assessment Schedule and future NAEP activities will also be discussed. This part of the meeting must be conducted in closed session because public disclosure of this information would likely have an adverse financial effect on the NAEP program by providing confidential cost details and proprietary contract costs of current contractors to the public. Discussion of this information would be likely to significantly impede implementation of a proposed agency action if conducted in open session. Such matters are protected by exemption 9(B) of section 552b of Title 5 U.S.C.

On November 21, 2014, the full Board will meet in open session from 8:30 a.m. to 9:30 a.m. The Board will review and approve the November 21-22, 2014 Board meeting agenda and meeting minutes from the July 31-August 2, 2014 Quarterly Board meeting. This session will be followed by the Chairman's remarks. The Chairman will then introduce the new Governing Board members who will provide remarks. Thereafter, the Executive Director of the Governing Board will provide a report, followed by an update on the Institute of Education Sciences (IES) from the Acting Director and an update on NCES from the Acting Commissioner. The Board will recess for Committee meetings from 10:00 a.m. to 12:30 p.m.

The Reporting and Dissemination Committee and the Committee on Standards, Design and Methodology (COSDAM) will meet in open sessions from 10:00 a.m. to 12:30 p.m. to discuss their ongoing policy issues. The Assessment Development Committee will meet in open session from 10:00 a.m. to 11:45 a.m. to discuss ongoing work and in closed session from 11:45 a.m. to 12:30 p.m. During the closed session, the Committee will receive a briefing on the 2011 NAEP Writing assessment which will include secure NAEP writing prompts in grades 4, 8, and 12 which were administered in 2011. These prompts will be re-administered in 2017 to report on trends in student writing achievement at grades 4, 8, and 12. The Committee's reviews and discussions on secure writing prompts cannot be discussed in an open meeting to protect the confidentiality of the secure assessment materials. Premature disclosure of these results would significantly impede implementation of the NAEP assessment program, and is therefore protected by exemption 9(B) of section 552b(c) of Title 5 United States Code.

Following the Committee meetings, the Board will convene in closed session from 12:45 p.m. to 1:45 p.m. to receive a briefing on a NAEP report titled, Mapping State Proficiency Standards onto NAEP Scales: 2011-2013. The Board will receive an embargoed briefing on preliminary results, which will include assessment data and results that cannot be discussed in an open meeting prior to their official approval and release in early 2015 by the National Assessment Governing Board. Premature disclosure of these results would significantly impede implementation of the NAEP assessment program, and is therefore protected by exemption 9(B) of section 552b(c) of Title 5 United States Code.

On November 21, 2014 from 2:00 p.m. to 2:30 p.m., the Board will meet in open session. The Secretary of Education, Arne Duncan, will administer the Oath of Office to new members and make remarks to the Board.

From 2:45 p.m. to 4:15 p.m., the Board will meet in closed session to discuss the NAEP Schedule of Assessments and NAEP budget. This session will be an in-depth briefing and discussion to examine specific costs for assessing NAEP subjects, including cost projections for moving NAEP to technology-based assessments, which will impact the NAEP schedule from 2015-2024. This detailed briefing will also allow new Board members to become thoroughly familiar with NAEP budget details in preparation for future action on the NAEP Schedule of Assessments in upcoming 2015 Board meetings. This part of the meeting must be conducted in closed session because public disclosure of this information would likely have an adverse financial effect on the NAEP program by providing contractors attending the Board meeting an unfair advantage in procurement and contract negotiations for NAEP. Discussion of this information would be likely to significantly impede implementation of a proposed agency action if conducted in open session. Such matters are protected by exemption 9(B) of section 552b of Title 5 U.S.C.

Following this closed session, Board members will receive their annual ethics briefing from the U.S. Department of Education, Office of General Counsel from 4:30 p.m. to 5:00 p.m. The November 21, 2014 session will adjourn at 5:00 p.m.

On November 22, 2014, the Nominations Committee will meet in closed session from 7:30 a.m. to 8:15 a.m. to discuss candidates for the eight Board vacancies for terms beginning on October 1, 2015. The Committee's discussions pertain solely to internal personnel rules and practices of an agency and information of a personal nature where disclosure would constitute an unwarranted invasion of personal privacy. As such, the discussions are protected by exemptions 2 and 6 of section 552b(c) of Title 5 of the United States Code.

On November 22, 2014, the Board will meet in closed session from 8:30 a.m. to 9:30 a.m. to receive a briefing and discuss the 2013 NAEP Puerto Rico Mathematics Report. This is an embargoed briefing on preliminary results, which will include assessment data and results that cannot be discussed in an open meeting prior to their official approval and release in December 2014 by the National Assessment Governing Board. Premature disclosure of these results would significantly impede implementation of the NAEP assessment program, and is therefore protected by exemption 9(B) of section 552b(c) of Title 5 United States Code.

From 9:30 a.m. to 10:15 a.m. the Board will receive a briefing on an Inside NAEP series—Recent NAEP Reports and Outreach. Following this session, from 10:30 a.m. to 12:00 p.m. the Board will receive reports from the standing Committees and the Assessment Literacy Work Group, and take action on Committee recommendations. The November 22, 2014 meeting is scheduled to adjourn at 12:00 p.m.

Access to Records of the Meeting: Pursuant to FACA requirements, the public may also inspect the meeting materials at www.nagb.gov on Friday, November 21, 2014 by 9:00 a.m. ET. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Pub. L. 107-279, Title III—National Assessment of Educational Progress § 301.

Dated: October 31, 2014.
Cornelia S. Orr,
Executive Director, National Assessment Governing Board (NAGB), U.S. Department of Education.

[FR Doc. 2014-26249 Filed 11-4-14; 8:45 am]

BILLING CODE 4000-01-P